DEPARTMENT OF THE TREASURY

Submission for OMB Review; Comment Request

May 22, 2001.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before June 29, 2001 to be assured of consideration.

Internal Revenue Service (IRS)

OMB Number: 1545-0685.

Form Number: IRS Form 1363.

Type of Review: Extension.

Title: Export Exemption Certificate.

Description: This form is used by carriers of property by air to justify the tax-free transport of property. It is used by IRS as proof of tax exempt status of each shipment.

Respondents: Business or other for-profit, Individuals or households.

Estimated Number of Respondents/Recordkeepers: 100,000.

Estimated Burden Hours Per Respondent/Recordkeeper:

Recordkeeping—3 hr., 49 min.

Learning about the law or the form—18 min.

Preparing, copying, assembling, and sending the form to the IRS—22 min.

Frequency of Response: On occasion.

Estimated Total Reporting/Recordkeeping Burden: 450,000 hours.

OMB Number: 1545-0915.

Form Number: IRS Form 8332.

Type of Review: Extension.

Title: Release of Claim to Exemption for Child of Divorced or Separated Parents.

Description: This form is used by the custodial parent to release claim to the dependency exemption for a child of divorced or separated parents. The data is used to verify that the noncustodial parent is entitled to claim the exemption.

Respondents: Individuals or households.

Estimated Number of Respondents/Recordkeepers: 150,000.

Estimated Burden Hours Per Respondents/Recordkeeper:

Recordkeeping—6 min.

Learning about the law or the form—5 min.

Preparing the form—7 min.

Copying, assembling, and sending the form to the IRS—13 min.

Frequency of Response: Annually.

Estimated Total Reporting/Recordkeeping Burden: 82,500 hours.

OMB Number: 1545-1013.

Form Number: IRS Form 8612.

Type of Review: Extension.

Title: Return of Excise Tax on Undistributed Income of Real Estate Investment Trusts.

Description: Form 8612 is used by real estate investment trusts to compute and pay the excise tax on undistributed income imposed under section 4981. IRS uses the information to verify that the correct amount of tax has been reported.

Respondents: Business or other for-profit.

Estimated Number of Respondents/Recordkeepers: 20.

Estimated Burden Hours Per Respondent/Recordkeeper:

Recordkeeping—6 hr., 13 min.

Learning about the law or the form—1 hr., 47 min.

Preparing and sending the form to the IRS—1 hr., 58 min.

Frequency of Response: Annually.

Estimated Total Reporting/Recordkeeping Burden: 196 hours.

Clearance Officer: Garrick Shear, Internal Revenue Service, Room 5244, 1111 Constitution Avenue, NW, Washington, DC 20224.

OMB Reviewer: Alexander T. Hunt, (202) 395-7860, Office of Management and Budget, Room 10202, New Executive Office Building, Washington, DC 20503.

Lois K. Holland,
Departmental Reports, Management Officer.

[FR Doc. 01-13471 Filed 5-29-01; 8:45 am]

BILLING CODE 4830-01-P